DEPARTMENT OF TRANSPORTATION

Federal Aviation Administration

Sixty-Third Meeting: RTCA Special Committee 186, Automatic Dependent Surveillance-Broadcast (ADS-B)

AGENCY: Federal Aviation Administration (FAA), U.S. Department of Transportation (DOT).

ACTION: Meeting Notice of RTCA Special Committee 186, Automatic Dependent Surveillance-Broadcast (ADS-B).

SUMMARY: The FAA is issuing this notice to advise the public of the sixty third meeting of the RTCA Special Committee 186, Automatic Dependent Surveillance-Broadcast (ADS-B).

DATES: The meeting will be held June 8-12 from 9:00 a.m.-5:00 p.m.

ADDRESSES: The meeting will be held at the University of Salzburg, Erzabt-Klotz-Strasse 1, 5020 Salzburg-Austria. WebEx/Audio information will be provided (upon request to Hal Moses for the public).

FOR FURTHER INFORMATION CONTACT: The RTCA Secretariat, 1150 18th Street NW., Suite 910, Washington, DC 20036, or by telephone at (202) 330-0662/(202) 833-9339, fax (202) 833-9434, or Web site at http://www.rtca.org.

SUPPLEMENTARY INFORMATION: The FAA Next Gen offices have had unexpected logistical delays, which prevented this Notice of Meeting from publishing 15 days in advance of the meeting.

Pursuant to section 10(a)(2) of the Federal Advisory Committee Act (Pub. L. 92-463, 5 U.S.C., App.), notice is hereby given for a meeting of Special Committee 186. The agenda will include the following:

Specific Working Group Sessions

June 8th

All Day, WG-4/EUROCAE Subgroup 3—Application Technical Requirements, University of Salzburg; FIM SPR and MOPS FRAC/WC Comment Resolutions

June 9th

All Day, WG-4/EUROCAE Subgroup 3—Application Technical Requirements, University of Salzburg; FIM SPR and MOPS FRAC/WC Comment Resolutions

June 10th

All Day, WG-4/EUROCAE Subgroup 3—Application Technical Requirements, University of Salzburg; FIM SPR and MOPS FRAC/WC Comment Resolutions

June 11th

All Day, WG-4/EUROCAE Subgroup 3—Application Technical Requirements, Crowne Plaza, University of Salzburg; FIM SPR and MOPS FRAC/WC Comment Resolutions

June 12th

University of Salzburg & via WebEx/Telecon Starting at 2:00 p.m. in Salzburg (8:00 a.m. EDT)

• Chairman's Introductory Remarks.

• Review of Meeting Agenda.

• Review/Approval of the 62nd Meeting Summary, RTCA Paper No. RTCA Paper No. 023-15/SC186-337.

• Surveillance Broadcast Services (SBS) Program Status

• European Activities

• WG-4—Application Technical Requirements

○ Document Approval: Revision A for Safety, Performance, and Interoperability Requirements (SPR) for ASPA-FIM (ED-195A/DO-328A) (RTCA Paper #059-15/SC-186-340)

○ Document Approval: MOPS for Flight Deck Interval Management (FIM) (RTCA Paper #057-15/SC-186-338)

○ Advanced Interval Management (A-IM) Development Status

• Coordination with SC-214/WG-78 for ADS-B Application Data Link Rqts-Status.

• FAA information briefings

○ Equip 2020

○ Planned TIS-B Service Changes Update

○ Identified TIS-B Open Issues

○ Summary of Avionics Monitoring results

• Date, Place and Time of Next Meeting.

• New Business.

○ None

• Other Business.

○ Aire on Status Update

• Review Action Items/Work Programs.

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on May 28, 2015.
Mohannad Dawoud,
Management Analyst, Program Oversight and Administration, NextGen, Management Services, Federal Aviation Administration.

[FR Doc. 2015-13376 Filed 6-1-15; 8:45 am]

BILLING CODE 4910-13-P